DEPARTMENT OF LABOR

Employment and Training Administration

Agency Information Collection Activities; Comment Request; Program Reporting and Performance Standards System for Indian and Native American Programs Under Title I, Section 166 of the Workforce Innovation and Opportunity Act (WIOA)

ACTION: Notice.

SUMMARY: The Department of Labor's (DOL's) Employment and Training Administration (ETA) is soliciting comments concerning a proposed extension for the authority to conduct the information collection request (ICR) titled, “Program Reporting and Performance Standards System for Indian and Native American Programs Under Title I, Section 166 of the Workforce Innovation and Opportunity Act (WIOA).” This comment request is part of continuing Departmental efforts to reduce paperwork and respondent burden in accordance with the Paperwork Reduction Act of 1995 (PRA).

DATES: Consideration will be given to all written comments received by January 14, 2020.

ADDRESSES: A copy of this ICR with applicable supporting documentation, including a description of the likely respondents, proposed frequency of response, and estimated total burden, may be obtained free by contacting Athena R. Brown by telephone at (214) 906-3902 (this is not a toll-free number), TTY 1-877-889-5627 (this is not a toll-free number), or by email at brown.athena@dol.gov.

Submit written comments about, or requests for a copy of, this ICR by mail or courier to the U.S. Department of Labor, Employment and Training Administration, Division of Indian and Native American Programs, 200 Constitution Ave. NW, Rm. # S-4206, Washington, DC 20210; by email: DINAP@dol.gov; or by Fax (202) 693-3817.

FOR FURTHER INFORMATION CONTACT: Duane Hall by telephone at (972) 850-4637 (this is not a toll-free number) or by email at hall.duane@dol.gov.

Authority: 44 U.S.C. 3506(c)(2)(A).

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

ETA requires the collection and reporting of data on eligible persons served under the WIOA, Section 166, Comprehensive Services Program (CSP) and Supplemental Youth Services (SYS) Program to assess the performance and delivery of services. Each Indian and Native American (INA) grantee receiving WIOA, Section 166 funds (non-Pub. L. 102-477 grantees) shall submit a CSP report (ETA Form 9084) on a quarterly basis. Grantees receiving WIOA Section 166 (SYS) funds (non-Pub. L. 102-477 grantees) shall submit a SYS program report (ETA Form 9085) semi-annually. This request is to extend the existing ETA form 9084 and 9085 report submitted each quarter/semi-annually, by INA grantees. The current ETA forms 9084 and 9085 expire on January 31, 2020. 29 U.S.C. Chapter 30, Subchapter V, § 2935(2), authorizes this information collection.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB control number 1205-0422.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submission of responses).

Agency: DOL-ETA.

Type of Review: Extension without changes.

Title of Collection: Program Reporting and Performance Standards System for Indian and Native American Programs Under Title I, Section 166 of the Workforce Innovation and Opportunity Act (WIOA).

Form: ETA-9084 and ETA-9085.

OMB Control Number: 1205-0422.

Affected Public: State, local and Tribal Governments.

Estimated Number of Respondents: 111 respondents to the CSP and 73 respondents to the SYS.

Frequency: Quarterly for the CSP (Form ETA-9084) and semi-annually for the SYS (Form ETA-9085).

Total Estimated Annual Responses: 440 respondents to the CSP and 146 respondents to the SYS.

Estimated Average Time per Response: 2 hours for the CSP and 2 hours for the SYS.

Estimated Total Annual Burden Hours: 1,180 hours.

Total Estimated Annual Other Cost Burden: $0.

John Pallasch,
Assistant Secretary for Employment and Training.

[FR Doc. 2019-24831 Filed 11-14-19; 8:45 am]

BILLING CODE 4510-FR-P